DEPARTMENT OF ENERGY

Federal Energy Regulatory Commission

[Docket No. ER02-339-001, et al.]

Deseret Generation & Transmission Co-operative, Inc., et al. Electric Rate and Corporate Regulation Filings

March 27, 2002.

Take notice that the following filings have been made with the Commission. Any comments should be submitted in accordance with Standard Paragraph E at the end of this notice.

1. Deseret Generation & Transmission Co-operative, Inc.

[Docket No. ER02-339-001]

Take notice that on March 22, 2002, Deseret Generation & Transmission Co-operative, Inc. (Deseret) tendered for filing with the Federal Energy Regulatory Commission (Commission) a refund report as directed by the Commission's January 23, 2002 letter order in the above-captioned proceeding.

Comment Date: April 12, 2002.

2. Delta Energy Center, LLC

[Docket No. ER02-600-001]

Take notice that on March 25, 2002, Delta Energy Center, LLC resubmitted for filing with the Federal Energy Regulatory Commission (Commission) all of its tariff sheets to reflect the correct effective date in compliance with the Commission order issued in this docket on February 13, 2002.

Comment Date: April 15, 2002.

3. Michigan Electric Transmission Company

[Docket No. ER02-924-001]

Take notice that on March 22, 2002, Michigan Electric Transmission Company, (METC) filed two executed Service Agreements for Network Integration Transmission and Network Operating Agreements (Agreements) with the Cities of Bay City and Hart (Customers) as Substitute Service Agreement Nos. 138 and 141 to replace the unexecuted agreements originally filed in this docket. Except for the fact that they have been fully executed, there are no changes between the Substitute Service Agreements being filed and those originally filed in this proceeding.

Michigan Transco is requesting an effective date of January 1, 2002 for the Agreements. Copies of the filed Agreements were served upon the Michigan Public Service Commission, ITC, the Customers and those on the service list in this proceeding.

Comment Date: April 12, 2002.

3. Sierra Pacific Power Company

[Docket No. ER02-1371-000]

Take notice that on March 25, 2002, Sierra Pacific Power Company (Sierra) tendered for filing pursuant to Section 205 of the Federal Power Act, an executed Amended and Restated Transmission Service Agreement (TSA), and an executed Amended and Restated Operating Agreement No. 2 (OA). Both agreements are between Sierra and Mt. Wheeler Power, Inc. The TSA will terminate and replace the Transmission Service Agreement, and the OA will terminate and replace the Amendment No. 1 to Operating Agreement No. 2, which were accepted for filing effective June 27, 1994. The TSA and OA are being filed at the request of Sierra and Mt. Wheeler Power, Inc.

Sierra has requested that the Commission accept the TSA and OA and permit service in accordance therewith effective May 1, 2002.

Comment Date: April 15, 2002.

4. American Electric Power Service Corporation

[Docket No. ER02-1372-000]

Take notice that on March 25, 2002, the American Electric Power Service Corporation (AEPSC) tendered for filing seven (7) Service Agreements which include Service Agreements for new customers and replacement Service Agreements for existing customers under the AEP Companies' Power Sales Tariffs. The Power Sales Tariffs were accepted for filing effective October 10, 1997 and has been designated AEP Operating Companies' FERC Electric Tariff Original Volume No. 5 (Wholesale Tariff of the AEP Operating Companies) and FERC Electric Tariff Original Volume No. 8, Effective January 8, 1998 in Docket ER 98-542-000 (Market-Based Rate Power Sales Tariff of the CSW Operating Companies). AEPSC respectfully requests waiver of notice to permit the attached Service Agreements to be made effective on or prior to January1, 2002.

A copy of the filing was served upon the Parties and the State Utility Regulatory Commissions of Arkansas, Indiana, Kentucky, Louisiana, Michigan, Ohio, Oklahoma, Tennessee, Texas, Virginia and West Virginia.

Comment Date: April 15, 2002.

5. Shady Hills Power Company, L.L.C.

[Docket No. ER02-1373-000]

Take notice that on March 25, 2002, Shady Hills Power Company, L.L.C. (Shady Hills) tendered for filing with the Federal Energy Regulatory Commission (Commission) Purchase Power Agreement (PPA) between Shady Hills and Reliant Energy Services, Inc. This filing is made pursuant to Shady Hills' authority to sell power at market-based rates under FERC Electric Tariff, Original Volume No. 1, approved by the Commission January 30, 2002, in Docket No. ER02-537-000.

Comment Date: April 15, 2002.

6. Xcel Energy Services, Inc.

[Docket No. ER02-1374-000]

Take notice that on March 25, 2002, Xcel Energy Services, Inc. (XES), on behalf of Northern States Power Company (Minnesota) (hereinafter NSP), submitted for filing a Third Revision to the Service Schedule A to the Municipal Interconnection and Interchange Agreement between NSP and they City of Buffalo. XES requests that this agreement become effective on January 1, 2002.

Comment Date: April 15, 2002.

7. Xcel Energy Services, Inc.

[Docket No. ER02-1375-000]

Take notice that on March 25, 2002, Xcel Energy Services, Inc. (XES), on behalf of Northern States Power Company (Minnesota) (hereinafter NSP), submitted for filing a Third Revision to the Service Schedule A to the Municipal Interconnection and Interchange Agreement between NSP and they City of Kasota. XES requests that this agreement become effective on January 1, 2002.

Comment Date: April 15, 2002.

8. Xcel Energy Services, Inc].

[Docket No. ER02-1376-000]

Take notice that on March 25, 2002, Xcel Energy Services, Inc. (XES), on behalf of Northern States Power Company (Minnesota) (hereinafter NSP), submitted for filing a Third Revision to the Service Schedule A to the Municipal Interconnection and Interchange Agreement between NSP and they City of Kasson. XES requests that this agreement become effective on January 1, 2002.

Comment Date: April 15, 2002.

9. Kansas Gas & Electric Company

[Docket No. ER02-1377-000]

Take notice that on March 25, 2002, Kansas Gas & Electric Company (KGE) (d.b.a. Westar Energy) tendered for filing a change in its Federal Power Commission Electric Service Tariff No. 93. KGE states that the change is to reflect the amount of transmission capacity requirements required by Western Resources, Inc. (WR) under Service Schedule M to FPC Rate Schedule No. 93 for the period from June 1, 2002 through May 31, 2003. KGE requests an effective date of June 1, 2002.

Notice of the filing has been served upon the Kansas Corporation Commission.

Comment Date: April 15, 2002.

10. ISO New England Inc].

[Docket No. ER02-1378-000]

Take notice that on March 25, 2002, ISO New England Inc. filed revisions to its Tariff for Transmission Dispatch and Power Administration Services.Copies of said filing have been served upon the New England Power Pool participants and non-participant transmission customers, as well as upon the state regulatory agencies and governors of the New England states.

Comment Date: April 15, 2002.

11. Delta Energy Center LLC

[Docket No. ER02-1379-000]

Take notice that on March 25, 2002, Delta Energy Center LLC (DEC) filed an executed power marketing agreement under which DEC will make wholesale sales of electric energy to Calpine Energy Services, L.P. at market-based rates. DEC requests privileged treatment of this agreement pursuant to 18 CFR 388.112.

Comment Date: April 15, 2002.

12. Consumers Energy Company

[Docket No. ER02-1380-000]

Take notice that on March 25, 2002 Consumers Energy Company (Consumers) tendered for filing a Service Agreement with Ameren Energy, Inc., as agent for and on behalf of Union Electric Company d/b/a Ameren UE and Ameren Energy Generating Company (Customer) under Consumers' FERC Electric Tariff No. 9 for Market Based Sales. Consumers requested that the Agreement be allowed to become effective as of March 18, 2002. Copies of the filing were served upon the Customer and the Michigan Public Service Commission.

Comment Date: April 15, 2002.

13. Aquila Merchant Services, Inc].

[Docket No. ER02-1381-000]

Take notice that on March 25, 2002, Aquila Merchant Services, Inc. submitted a Notice of Succession pursuant to Section 35.16 of the Commission's Regulations, 18 CFR 35.16 (2001). Aquila Merchant Services, Inc. is succeeding to the FERC Electric Rate Schedule No. 1 of Aquila Inc., (successor by merger to Aquila Energy Marketing Corporation) effective March 1, 2002.

Comment Date: April 15, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 02-7887 Filed 3-29-02; 8:45 am]

BILLING CODE 6717-01-P